COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete services from the Procurement List that were furnished by nonprofit agencies employing persons who are blind or have other severe disabilities.

DATES: Comments must be received on or before: January 5, 2020.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following services are proposed for deletion from the Procurement List:

Services

Service Type: Janitorial/Grounds Maintenance

Mandatory for: VA Outpatient Clinic, Rome, NY

Mandatory Source of Supply: The Arc, Oneida-Lewis Chapter-NYSARC, Inc., Utica, NY

Contracting Activity: VETERANS AFFAIRS, DEPARTMENT OF, NAC

Service Type: Janitorial/Custodial

Mandatory for: U.S. Federal Building: 45 Bay Street, Staten Island, NY

Mandatory Source of Supply: Fedcap Rehabilitation Services, Inc., New York, NY

Contracting Activity: GENERAL SERVICES ADMINISTRATION, FPDS AGENCY COORDINATOR

Service Type: Janitorial/Custodial

Mandatory for: Auke Bay Station Post Office: 11899 Glacier Highway, Auke Bay, AK

Mandatory Source of Supply: REACH, Inc., Juneau, AK

Contracting Activity: U.S. Postal Service, Washington, DC

Service Type: Janitorial/Custodial Service

Mandatory for: DCMA Office, 366 Avenue D, Building 7216, Dyess AFB, TX

Mandatory Source of Supply: Training, Rehabilitation, & Development Institute, Inc., San Antonio, TX

Contracting Activity: DEFENSE CONTRACT MANAGEMENT AGENCY (DCMA), DEFENSE CONTRACT MANAGMENT OFFICE

Service Type: Janitorial/Custodial

Mandatory for: Veterans Affairs Building: 252 Seventh Avenue, New York, NY

Mandatory Source of Supply: Fedcap Rehabilitation Services, Inc., New York, NY

Contracting Activity: VETERANS AFFAIRS, DEPARTMENT OF, NAC

Service Type: Janitorial/Custodial

Mandatory for: Phillips Buildings Complex: 7900 and 7920 Norfolk Avenue, Bethesda, MD

Contracting Activity: NUCLEAR REGULATORY COMMISSION, OFFICE OF ADMINISTRATION

Service Type: Janitorial/Custodial

Mandatory for: Naval & Marine Corps Reserve Center: 30 Woodward Avenue, New Haven, CT

Mandatory Source of Supply: CW Resources, Inc., New Britain, CT

Contracting Activity: DEPT OF THE NAVY, U.S. FLEET FORCES COMMAND

Service Type: Grounds Maintenance

Mandatory for: Air National Guard Readiness Center, Andrews AFB, MD

Mandatory Source of Supply: Melwood Horticultural Training Center, Inc., Upper Marlboro, MD

Contracting Activity: DEPT OF DEFENSE, DOD/OFF OF SECRETARY OF DEF (EXC MIL DEPTS)

Patricia Briscoe,
Deputy Director, Business Operations (Pricing and Information Management).

[FR Doc. 2019-26319 Filed 12-5-19; 8:45 am]

BILLING CODE 6353-01-P